DEPARTMENT OF HEALTH AND HUMAN SERVICES

Food and Drug Administration

[Docket Nos. FDA-2018-M-3841, FDA-2018-M-3842, FDA-2018-M-3983, FDA-2018-M-4033, FDA-2018-M-4205, FDA-2018-M-4580, FDA-2018-M-4582, FDA-2018-M-4665, FDA-2018-M-4777, FDA-2018-M-4778, FDA-2018-M-4779, FDA-2018-M-4780, FDA-2018-M-4916, FDA-2019-M-0027, FDA-2019-M-0028, FDA-2019-M-0505, FDA-2019-M-0645, FDA-2019-M-0802, FDA-2019-M-0885, FDA-2019-M-0995, FDA-2019-M-1214, FDA-2019-M-1251, FDA-2019-M-1310, FDA-2019-M-1313, FDA-2019-M-1465, FDA-2019-M-1506, FDA-2019-M-1582, FDA-2019-M-1763, FDA-2019-M-1848, FDA-2019-M-1979, FDA-2019-M-1998, FDA-2019-M-2052, FDA-2019-M-2193, FDA-2019-M-2408, FDA-M-2522, FDA-2019-M-2560, FDA-2019-M-2561, FDA-2019-M-2671, FDA-2019-M-2732, FDA-2019-M-2753, FDA-2019-M-2782, FDA-2019-M-3309, FDA-2019-M-3513, FDA-2019-M-3652, FDA-2019-M-3845, FDA-2019-M-3863, FDA-2019-M-3844, FDA-2019-M-4007, FDA-2019-M-4153, FDA-2019-M-4186, FDA-2019-M-4238, FDA-2019-M-4928, FDA-2019-M-4978, FDA-2019-M-5393, FDA-2019-M-5438, FDA-2019-M-5534, FDA-2019-M-5605, FDA-2019-M-5683, FDA-2019-M-5741, FDA-2019-M-5857, FDA-2019-M-5961, FDA-2020-M-0097, FDA-2020-M-0107, FDA-2020-M-0108, FDA-2020-M-0495, FDA-2020-M-0985, FDA-2020-M-0984, FDA-2020-M-0986, FDA-2020-M-1083, FDA-2020-M-1115, FDA-2020-M-1116, FDA-2020-M-1175, FDA-2020-M-1213, FDA-2020-M-1214, FDA-2020-M-1267, FDA-2020-M-1286, FDA-2020-M-1290, FDA-2020-M-1299, FDA-2020-M-1300, FDA-2020-M-1311, FDA-2020-M-1358, FDA-2020-M-1367, FDA-2020-M-1410, FDA-2020-M-1420, FDA-2020-M-1527, FDA-2020-M-1583, FDA-2020-M-1600, FDA-2020-M-1612, FDA-2020-M-1613, FDA-2020-M-1715, FDA-2020-M-1724, FDA-2020-M-1726, FDA-2020-M-1748, FDA-2020-M-1752, FDA-2020-M-1760, FDA-2020-M-1821, FDA-2020-M-1783, FDA-2020-M-1822, FDA-2020-M-1828, FDA-2020-M-1830, FDA-2020-M-1829, FDA-2020-M-1835, FDA-2020-M-1838, FDA-2020-M-1868, FDA-2020-M-1986, FDA-2020-M-2021, FDA-2020-M-2288, FDA-2020-M-2248, and FDA-2020-M-2339]

Medical Devices; Availability of Safety and Effectiveness Summaries for Premarket Approval Applications

AGENCY: Food and Drug Administration, HHS.

ACTION: Notice.

SUMMARY: The Food and Drug Administration (FDA or Agency) is publishing a list of premarket approval applications (PMAs) that have been approved from October 1, 2018, through December 31, 2020. This list is intended to inform the public of the availability of safety and effectiveness summaries of approved PMAs through the internet and the Agency's Dockets Management Staff.

ADDRESSES: You may submit comments as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket Nos. FDA-2018-M-3841, FDA-2018-M-3842, FDA-2018-M-3983, FDA-2018-M-4033, FDA-2018-M-4205, FDA-2018-M-4580, FDA-2018-M-4582, FDA-2018-M-4665, FDA-2018-M-4777, FDA-2018-M-4778, FDA-2018-M-4779, FDA-2018-M-4780, FDA-2018-M-4916, FDA-2019-M-0027, FDA-2019-M-0028, FDA-2019-M-0505, FDA-2019-M-0645, FDA-2019-M-0802, FDA-2019-M-0885, FDA-2019-M-0995, FDA-2019-M-1214, FDA-2019-M-1251, FDA-2019-M-1310, FDA-2019-M-1313, FDA-2019-M-1465, FDA-2019-M-1506, FDA-2019-M-1582, FDA-2019-M-1763, FDA-2019-M-1848, FDA-2019-M-1979, FDA-2019-M-1998, FDA-2019-M-2052, FDA-2019-M-2193, FDA-2019-M-2408, FDA-2019-M-2522, FDA-2019-M-2560, FDA-2019-M-2561, FDA-2019-M-2671, FDA-2019-M-2732, FDA-2019-M-2753, FDA-2019-M-2782, FDA-2019-M-3309, FDA-2019-M-3513, FDA-2019-M-3652, FDA-M-3845, FDA-2019-M-3862, FDA-2019-M-3863, FDA-2019-M-3844, FDA-2019-M-4007, FDA-2019-M-4153, FDA-2019-M-4186, FDA-2019-M-4238, FDA-2019-M-4928, FDA-2019-M-4978, FDA-2019-M-5393, FDA-2019-M-5438, FDA-2019-M-5534, FDA-2019-M-5605, FDA-2019-M-5683, FDA-2019-M-5741, FDA-2019-M-5857, FDA-2019-M-5961, FDA-2020-M-0097, FDA-2020-M-0107, FDA-2020-M-0108, FDA-2020-M-0495, FDA-2020-M-0985, FDA-2020-M-0984, FDA-2020-M-0986, FDA-2020-M-1083, FDA-2020-M-1115, FDA-2020-M-1116, FDA-2020-M-1175, FDA-2020-M-1213, FDA-2020-M-1214, FDA-2020-M-1267, FDA-2020-M-1286, FDA-2020-M-1290, FDA-2020-M-1299, FDA-2020-M-1300, FDA-2020-M-1311, FDA-2020-M-1358, FDA-2020-M-1367, FDA-2020-M-1410, FDA-2020-M-1420, FDA-2020-M-1527, FDA-2020-M-1583, FDA-2020-M-1600, FDA-2020-M-1612, FDA-2020-M-1613, FDA-2020-M-1715, FDA-2020-M-1724, FDA-2020-M-1726, FDA-2020-M-1748, FDA-2020-M-1752, FDA-2020-M-1760, FDA-2020-M-1821, FDA-2020-M-1783, FDA-2020-M-1822, FDA-2020-M-1828, FDA-2020-M-1830, FDA-2020-M-1829, FDA-2020-M-1835, FDA-2020-M-1838, FDA-2020-M-1868, FDA-2020-M-1986, FDA-2020-M-2021, FDA-2020-M-2288, FDA-2020-M-2248, and FDA-2020-M-2339 for “Medical Devices; Availability of Safety and Effectiveness Summaries for Premarket Approval Applications.” Received comments will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

FOR FURTHER INFORMATION CONTACT: Dharmesh Patel, Center for Devices and Radiological Health, Food and Drug Administration, 10903 New Hampshire Ave., Bldg. 66, Rm. 2434, Silver Spring, MD 20993-0002, 301-796-3289.

SUPPLEMENTARY INFORMATION:

I. Background

In accordance with section 515(d)(4) and (e)(2) of the Federal Food, Drug, and Cosmetic Act (FD&C Act) (21 U.S.C. 360e(d)(4) and (e)(2)), notification of an order approving, denying, or withdrawing approval of a PMA will continue to include a notice of opportunity to request review of the order under section 515(g) of the FD&C Act. The 30-day period for requesting reconsideration of an FDA action under § 10.33(b) (21 CFR 10.33(b)) for notices announcing approval of a PMA begins on the day the notice is published in the Federal Register. Section 10.33(b) provides that FDA may, for good cause, extend this 30-day period. Reconsideration of a denial or withdrawal of approval of a PMA may be sought only by the applicant; in these cases, the 30-day period will begin when the applicant is notified by FDA in writing of its decision.

The regulations provide that FDA publish a list of available safety and effectiveness summaries of PMA approvals and denials that were announced. The following is a list of approved PMAs for which summaries of safety and effectiveness were placed on the internet from October 1, 2018, through December 31, 2020. There were no denial actions during this period. The list provides the manufacturer's name, the product's generic name or the trade name, and the approval date.

Table 1—List of Safety and Effectiveness Summaries for Approved PMAs and Safety and Probable Benefit Summaries for Approved HDEs Made Available From October 1, 2018, Through December 31, 2020
PMA No., Docket No. | Applicant | Trade name | Approval date
P180003, FDA-2018-M-3841 | Veryan Medical Ltd | BioMimics 3D Vascular Stent System | 10/4/2018
P150040/S003, FDA-2018-M-3842 | Carl Zeiss Meditec, Inc | VisuMax Femtosecond Laser | 10/4/2018
P160054/S008, FDA-2018-M-3983 | Thoratec Corp | HeartMate 3 Left Ventricular Assist System | 10/18/2018
P100040/S036, FDA-2018-M-4033 | Medtronic Vascular | Valiant NavionTM Thoracic Stent Graft System | 10/19/2018
P180010, FDA-2018-M-4205 | W.L. Gore & Associates, Inc | GORE Carotid Stent | 11/1/2018
P150002, FDA-2018-M-4580 | Cordis Corp | Cordis INCRAFT® AAA Stent Graft System | 11/27/2018
P120016/S024, FDA-2018-M-4582 | Cardiva Medical, Inc | VASCADE® MVP Venous Vascular Closure System | 11/27/2018
P180007, FDA-2018-M-4665 | Spiration, Inc | Spiration® Valve System | 12/3/2018
P160034, FDA-2018-M-4672 | Cardiac Science Corp | Powerheart® G3 Pro AED | 12/6/2018
P160033, FDA-2018-M-4675 | Cardiac Science Corp | Powerheart® G5 AED, Powerheart® AED G3 Plus, And Powerheart® AED G3 | 12/7/2018
P160043/S012, FDA-2018-M-4777 | Medtronic Vascular | Resolute OnyxTM Zotarolimus-Eluting Coronary Stent System | 12/14/2018
P110013/S088, FDA-2018-M-4778 | Medtronic Vascular | Resolute Integrity Zotarolimus-Eluting Coronary Stent System | 12/14/2018
P100018/S015, FDA-2018-M-4779 | Micro Therapeutics, Inc. d/b/a ev3 Neurovascular | PipelineTM Flex Embolization Device | 12/14/2018
P150038/S006, FDA-2018-M-4780 | InSightec, Inc | Exablate Model 4000 Types 1.0 and 1.1 System (Exablate Neuro) | 12/16/2018
P170018, FDA-2018-M-4916 | Physio-Control, Inc | LIFEPAK® CR2 Defibrillator | 12/21/2018
P170032, FDA-2019-M-0027 | Sequent Medical, Inc | Woven EndoBridge (WEB) Aneurysm Embolization System | 12/31/2018
P180001, FDA-2019-M-0028 | William Cook Europe ApS | Zenith® Dissection Endovascular System | 12/31/2018
P170037, FDA-2019-M-0505 | OPKO Diagnostics, LLC | Sangia Total PSA Test | 1/30/2019
P180025, FDA-19M-2526 | Essential Medical, Inc | MANTATM Vascular Closure Device | 2/1/2019
P170036, FDA-2019-M-0645 | Spinal Kinetics LLC | M6-CTM Artificial Cervical Disc | 2/6/2019
P160050, FDA-2019-M-0802 | Intrinsic Therapeutics | Barricaid® Anular Closure Device (ACD) | 2/8/2019
P170030, FDA-2019-M-0885 | Biotronik, Inc | Orsiro Sirolimus Eluting Coronary Stent System (Orsiro Stent System) | 2/22/2019
P170042/S002, FDA-2019-M-0995 | C.R. Bard, Inc | COVERATM Vascular Covered Stent | 3/1/2019
P160002/S009, FDA-2019-M-1310 | Ventana Medical System, Inc | VENTANA PD-L1 (SP142) Assay | 3/8/2019
P180037, FDA-2019-M-1214 | Bard Peripheral Vascular, Inc. (BPV) | VENOVO Venous Stent System | 3/13/2019
P100009/S028, FDA-2019-M-1251 | Abbott Vascular, Inc | MitraClip NT Clip Delivery System; MitraClip NTR/XTR Clip Delivery System | 3/14/2019
P180036, FDA-2019-M-1313 | Impulse Dynamics (USA), Inc | OPTIMIZER Smart System | 3/21/2019
P180040, FDA-2019-M-1465 | Fidia Pharma USA, Inc | TRILURONTM | 3/26/2019
P180032, FDA-2019-M-1506 | Channel Medsystems, Inc | Cerene® Cryotherapy Device | 3/28/2019
P170027, FDA-2019-M-1582 | TherOx, Inc | TherOx DownStream System | 4/2/2019
P180034, FDA-2019-M-1763 | Intact Vascular, Inc | Tack Endovascular System® (6F) | 4/11/2019
P180043, FDA-2019-M-1979 | QIAGEN Manchester Ltd | therascreen® FGFR RGQ RT-PCR Kit | 4/12/2019
P180024, FDA-2019-M-1848 | BAROnova, Inc | TransPyloric Shuttle/TransPyloric Shuttle Delivery Device | 4/16/2019
P180029, FDA-2019-M-1998 | Boston Scientific Corp | LOTUS EdgeTM Valve System | 4/23/2019
P180014, FDA-2019-M-2052 | XVIVO Perfusion, Inc | XVIVO Perfusion System (XPSTM) with STEEN SolutionTM Perfusate | 4/26/2019
P180013, FDA-2019-M-2193 | Boston Scientific Corp | VICI VENOUS STENT® System | 5/2/2019
P180031, FDA-2019-M-2408 | Stryker Neurovascular | Neuroform Atlas® Stent System | 5/16/2019
H180002, FDA-2019-M-2522 | Novocure, Ltd | NovoTTFTM-100L System | 5/23/2019
P190001, FDA-2019-M-2560 | QIAGEN GmbH | therascreen PIK3CA RGQ PCR Kit | 5/24/2019
P190004, FDA-2019-M-2561 | QIAGEN GmbH | therascreen PIK3CA RGQ PCR Kit | 5/24/2019
P160013/S002, FDA-2019-M-2671 | TransMedics, Inc | Organ Care System (OCSTM) Lung System | 5/31/2019
P160036, FDA-2019-M-2732 | DT MedTech, LLC | Hintermann Series H3TM Total Ankle Replacement System | 6/4/2019
P160048/S006, FDA-2019-M-2753 | Senseonics, Inc | Eversense Continuous Glucose Monitoring System | 6/6/2019
P160029, FDA-2019-M-2782 | Philips Medical Systems, Inc | HeartStart OnSite Defibrillator (Model M5066A), HeartStart Home Defibrillator (Model M5068A), Primary Battery (Model M5070A), SMART Pads Cartridges (Adult Model M5071A) and Infant/Child (Model M5072A) | 6/6/2019
P150013/S014, FDA-2019-M-3309 | Dako North America, Inc | PD-L1 IHC 22C3 pharmDx | 6/10/2019
P000025/S104, FDA-2019-M-3513 | MED-EL Corp | MED-EL Cochlear Implant System | 7/19/2019
P150013/S016, FDA-2019-M-3652 | Dako North America, Inc | PD-L1 1HC 22C3 pharmDx | 7/30/2019
P140031/S085, FDA-2019-M-3845 | Edwards Lifesciences LLC | Edwards SAPIEN 3 Transcatheter Heart Valve System and Edwards SAPIEN 3 Ultra Transcatheter Heart Valve System | 8/16/2019
H190005, FDA-2019-M-3863 | Zimmer Biomet Spine, Inc | The TetherTM—Vertebral Body Tethering System | 8/16/2019
P180050, FDA-2019-M-3862 | CVRx, Inc | BAROSTIM NEO® System | 8/16/2019
P130021/S058, FDA-2019-M-3844 | Medtronic CoreValve LLC | Medtronic CoreValve Evolut R System and Medtronic CoreValve Evolut PRO System | 8/16/2019
H170001, FDA-2019-M-4007 | ApiFix, Ltd | Minimally Invasive Deformity Correction (MID-C) System | 8/23/19
P040020/S087, FDA-2019-M-4153 | Alcon Laboratories, Inc | AcrySof® IQ PanOptix® Trifocal Intraocular Lens (Model TFNT00) and AcrySof® IQ PanOptix® Toric Trifocal Intraocular Lens (Models TFNT30, TFNT40, TFNT50 and TFNT60) | 8/26/2019
P190006, FDA-2019-M-4186 | Axonics Modulation Technologies, Inc | Axonics Sacral Neuromodulation System | 9/6/2019
P930016/S057, FDA-2019-M-4238 | AMO Manufacturing USA, LLC | iDESIGN® Refractive Studio and STAR S4 IR® Excimer Laser Systems | 9/9/2019
P190011, FDA-2019-M-4928 | DiaSorin Inc | LIAISON XL MUREX HCV Ab LIAISON XL MUREX Control HCV Ab | 10/18/2019
P190014, FDA-2019-M-4978 | Myriad Genetic Laboratories, Inc | Myriad myChoice® CDx | 10/23/2019
P180046, FDA-2019-M-5393 | Axonics Modulation Technologies, Inc | Axonics Sacral Neuromodulation System | 11/13/2019
P180035, FDA-2019-M-5438 | CooperVision, Inc | MiSight 1 Day (omafilcon A) Soft (Hydrophilic) Contact Lenses for Daily Wear | 11/15/2019
P190008, FDA-2019-M-5534 | Medtronic, Inc | IN.PACTTM AV Paclitaxel-coated Percutaneous Transluminal Angioplasty (PTA) Balloon Catheter | 11/21/2019
P190016, FDA-2019-M-5605 | Tusker Medical, Inc | Tula® System | 11/25/2019
P180047, FDA-2019-M-5683 | DiaSorin, Inc | LIAISON QuantiFERON—TB Gold Plus, LIAISON Control QuantiFERON—TB Gold Plus and LIAISON QuantiFERON Software | 11/26/2019
P170019/S006, FDA-2019-M-5741 | Foundation Medicine, Inc | FoundationOne® CDx | 12/3/2019
P170038, FDA-2019-M-5857 | Abbott | CentriMag Circulatory Support System | 12/6/2019
P180027, FDA-2019-M-5961 | MicroVention, Inc | Flow Re-Direction Endoluminal Device (FRED®) System | 12/16/2019
P140009/S039, FDA-2020-M-0097 | Abbott Medical, Inc | Abbott InfinityTM DBS System | 1/2/2020
P180038, FDA-2020-M-0107 | DiaSorin, Inc | LIAISON® XL MUREX Anti-HBc, LIAISON® XL MUREX Control Anti-HBc | 1/2/2020
P190018, FDA-2020-M-0108 | Alcon Research, Inc | ClareonTM Aspheric Hydrophobic Acrylic Intraocular Lens (IOL) (Model Number: SY60WF); ClareonTM Toric Aspheric Hydrophobic Acrylic Intraocular Lens (IOL) (Model Numbers: CNW0T3, CNW0T4, CNW0T5, CNW0T6, CNW0T7, CNW0T8 and CNW0T9); ClareonTM Aspheric Hydrophobic Acrylic Intraocular Lens (IOL) with the AutonoMeTM Pre-loaded Delivery System (Model Number: CNA0T0); ClareonTM Toric Aspheric Hydrophobic Acrylic Intraocular Lens (IOL) with the AutonoMeTM Pre-loaded Delivery System (Model Numbers: CNA0T3, CNA0T4, CNA0T5, CNA0T6, CNA0T7, CNA0T8 and CNA0T9) | 1/7/2020
P170023, FDA-2020-M-0495 | Contura International A/S | Bulkamid® Urethral Bulking System | 1/28/2020
P170022, FDA-2020-M-0985 | ARJ Medical, Inc | PyloPlus UBT System | 2/18/2020
P180039, FDA-2020-M-0984 | DiaSorin Inc | LIAISON® XL MUREX Anti-HBs; LIAISON® XL MUREX Control Anti-HBs; LIAISON® XL MUREX Anti-HBs Verifiers | 2/21/2020
P930014/S126, FDA-2020-M-0986 | Alcon Laboratories, Inc | AcrySofTM IQ VivityTM Extended Vision Intraocular Lens (Model DFT015); AcrySofTM IQ VivityTM Toric Extended Vision IOLs (DFT315, DFT 415, DFT515); AcrySofTM IQ VivityTM Extended Vision UV Absorbing IOL (DAT015); AcrySofTM IQ VivityTM Toric Extended Vision UV Absorbing IOLs (DAT315, DAT415, DAT515) | 2/26/2020
P190024, FDA-2020-M-1083 | Ventana Medical Systems, Inc | CINtec® PLUS Cytology | 3/10/2020
P120006/S031, FDA-2020-M-1126 | Endologix, Inc | AltoTM Abdominal Stent Graft System | 3/13/2020
P980033/S050, FDA-2020-M-1115 | Boston Scientific Corp | VENOUS WALLSTENT | 3/17/2020
P970051/S172, FDA-2020-M-1116 | Cochlear Americas | Nucleus 24 Cochlear Implant System | 3/17/2020
P190025, FDA-2020-M-1175 | Abbott Molecular, Inc | Alinity m HCV | 3/23/2020
P140029/S021, FDA-2020-M-1214 | Q-Med AB, a Galderma affiliate | Restylane® Kysse | 3/26/2020
P190028, FDA-2020-M-1213 | Roche Molecular Systems, Inc | cobas HPV for use on the cobas 6800/8800 Systems | 4/3/2020
P190027, FDA-2020-M-1286 | Intact Vascular, Inc | Tack Endovascular System® (4F, 1.5-4.5mm) | 4/10/2020
P050010/S020, FDA-2020-M-1267 | Centinel Spine, LLC | prodisc® L Total Disc Replacement | 4/10/2020
P130008/S039, FDA-2020-M-1299 | Inspire Medical Systems, Inc | Inspire® Upper Airway Stimulation (UAS) | 4/14/2020
P190026, FDA-2020-M-1290 | QIAGEN GmbH | therascreen® BRAF V600E RGQ PCR Kit | 4/15/2020
P170019/S013, FDA-2020-M-1300 | Foundation Medicine, Inc | FoundationOne® CDx (F1CDx) | 4/17/2020
P190015, FDA-2020-M-1311 | Bolton Medical Inc | TREO® Abdominal Stent-Graft System | 5/4/2020
P170019/S011, FDA-2020-M-1358 | Foundation Medicine, Inc | FoundationOne® CDx (F1CDx) | 5/6/2020
P160028, FDA-2020-M-1367 | Philips Medical Systems, Inc | HeartStart FR3 Defibrillators Models 861388 (Text) and 861389 (ECG Display), Primary Battery (Models 989803150161, 989803150171), Rechargeable Battery (Model 989803150241), Charger for the Rechargeable Battery (Model 861394), SmartPads III (Models 989803149981, 989803149991), DP pads (Models 989803158211, 989803158221), and Pediatric Key (Model 989803150031) | 5/11/2020
P180028, FDA-2020-M-1368 | Philips Medical Systems, Inc | HeartStart FRx Defibrillator (861304), Primary Battery (M5070A), Aviation FRx Battery (989803139301), SMART Pads II (989803139261), and Infant/Child Key (989803139311) | 5/11/2020
P150025/S013, FDA-2020-M-1410 | Dako North America, Inc | PD-L1 IHC 28-8 pharmDx | 5/15/2020
P170019/S015, FDA-2020-M-1420 | Foundation Medicine, Inc | FoundationOne® CDx | 5/19/2020
P110033/S047, FDA-2020-M-1527 | Allergan | JUVÉDERM® VOLUMATM XC | 6/12/2020
P190021, FDA-2020-M-1583 | Mainstay Medical Ltd | ReActiv8 Implantable Neurostimulation System | 6/16/2020
P170019/S016, FDA-2020-M-1612 | Foundation Medicine, Inc | FoundationOne® CDx (F1CDx) | 6/16/2020
P200014, FDA-2020-M-1600 | Roche Molecular Systems, Inc | cobas® EZH2 Mutation Test | 6/18/2020
P100010/S098, FDA-2020-M-1613 | Medtronic, Inc | Arctic Front AdvanceTM Cardiac Cryoablation Catheter Arctic Front Advance ProTM Cardiac Cryoablation Catheters FreezorTM MAX Cardiac Cryoablation Catheter CryoConsole Manual Retraction Kit | 6/23/2020
P130013/S035, FDA-2020-M-1715 | Boston Scientific Corp | WATCHMAN FLX Left Atrial Appendage Closure Device with Delivery System and WATCHMAN Left Atrial Appendage Closure Device with Delivery System | 7/21/2020
P190031, FDA-2020-M-1724 | Ventana Medical Systems, Inc | VENTANA HER2 Dual ISH DNA Probe Cocktail | 7/28/2020
P180031/S001, FDA-2020-M-1726 | Stryker Neurovascular | Neuroform Atlas® Stent System | 7/30/2020
P200010, FDA-2020-M-1748 | Guardant Health, Inc | Guardant360® CDx | 8/7/2020
P190007, FDA-2020-M-1752 | Cardinal Health | KendallTM Multi-Function Defibrillation Electrodes, Medi-TraceTM Cadence Multi-Function Defibrillation Electrodes, Physio-Control/Stryker QUIK-COMBO Pacing/Defibrillation/ECG Electrodes | 8/7/2020
P150003/S058, FDA-2020-M-1760 | Boston Scientific Corp | SYNERGYTM Everolimus-Eluting Platinum Chromium Coronary Stent System (MonorailTM); SYNERGYTM Everolimus-Eluting Platinum Chromium Coronary Stent System (Over-The-WireTM); SYNERGYTM XD Everolimus-Eluting Platinum Chromium Coronary Stent System (MonorailTM) | 8/10/2020
P190032, FDA-2020-M-1821 | Foundation Medicine, Inc | FoundationOne Liquid CDx | 8/26/2020
P180048, FDA-2020-M-1783 | Diasorin, Inc | LIAISON® XL MUREX HBeAg, LIAISON® XL MUREX Control HBeAg | 8/29/2020
P180049, FDA-2020-M-1822 | Diasorin, Inc | LIAISON® XL MUREX anti-HBe, LIAISON® XL MUREX Control Anti-HBe | 8/29/2020
P180045, FDA-2020-M-1828 | Diasorin, Inc | LIAISON® XL MUREX HBc IgM, LIAISON® XL MUREX Control HBc IgM | 8/29/2020
P200013, FDA-2020-M-1830 | Abbott Molecular, Inc | Alinity m HBV | 8/29/2020
P190017, FDA-2020-M-1829 | Diasorin, Inc | LIAISON® XL MUREX HBsAg Qual; LIAISON® MUREX Control HBsAg Qual; LIAISON® XL MUREX HBsAg Confirmatory Test | 8/29/2020
P200015, FDA-2020-M-1835 | Edwards Lifesciences, LLC | Edwards SAPIEN 3 Transcatheter Heart Valve System with Edwards Commander Delivery System | 8/31/2020
P160017/S076, FDA-2020-M-1838 | Medtronic Minimed, Inc | MiniMed 770G System | 8/31/2020
P140031/S112, FDA-2020-M-1868 | Edwards Lifesciences, LLC | Edwards SAPIEN 3 and SAPIEN 3 Ultra Transcatheter Heart Valve System | 9/9/2020
P200022, FDA-2020-M-1986 | Simplify Medical, Inc | Simplify® Cervical Artificial Disc | 9/18/2020
P160042/S010, FDA-2020-M-2021 | Prollenium Medical Technologies, Inc | Revanesse® Lips+ | 9/21/2020
H190001, FDA-2020-M-2248 | HDL Therapeutics, Inc | Plasma Delipidation System (PDS-2TM System) | 12/1/2020
P190030, FDA-2020-M-2288 | Theragen, Inc | ActaStim-S Spine Fusion Stimulator | 12/9/20
P200030, FDA-2020-M-2339 | W. L. Gore and Associates, Inc | GORE® EXCLUDER® Conformable AAA Endoprosthesis (EXCC) | 12/22/20

II. Electronic Access

Persons with access to the internet may obtain the documents at https://www.fda.gov/MedicalDevices/ProductsandMedicalProcedures/DeviceApprovalsandClearances/PMAApprovals/default.htm.

Dated: March 15, 2021.
Lauren K. Roth,
Acting Principal Associate Commissioner for Policy.

[FR Doc. 2021-06052 Filed 3-23-21; 8:45 am]

BILLING CODE 4164-01-P